NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites 1 public comments on such records schedules, as required by 44 U.S.C. 3303a(a).

DATES: Requests for copies must be received in writing on or before May 20, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

Fax: (301) 837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-03-2, 5 items, 3 temporary items). Background case files for directives and bulletins. Also included are electronic copies of records created using electronic mail and word processing. Proposed for permanent retention are recordkeeping copies of directives and manager's bulletins.

2. Department of Commerce, National Oceanic and Atmospheric Administration (N1-370-03-3, 22 items, 21 temporary items). Records of the National Centers for Environmental Prediction. Included are climatological assessments, global precipitation estimates, and electronic copies of records created using electronic mail and word processing. Also included are data, system documentation, inputs, outputs, and backups associated with such systems as the Climate Data Assimilation System, the Climate Assessment Database, and the Automated Tropical Cyclone Forecast System. Proposed for permanent retention are recordkeeping copies of tropical cyclone storm wallets, which contain information concerning tropical storms and hurricanes.

3. Department of Commerce, National Oceanic and Atmospheric Administration (N1-370-00-4, 34 items, 34 temporary items). Records of the National Ocean Service's Center for Operational Oceanographic Products and Services. Included are records relating to forecast predictions and measurement of water levels, tidal currents, water temperature and density, precipitation, and crustal movement, documentation identifying and locating bench marks, information systems that maintain observational data and provide real-time observations and forecasts, and electronic copies of records created using electronic mail and word processing.

4. Department of Homeland Security, Transportation Security Administration (N1-560-04-3, 11 items, 11 temporary items). Records relating to screening passengers and baggage. Included are such records as screening equipment alarm and testing records, calibration logs, shift summary reports, checkpoint rosters and logs, screener schedules, audio-visual recordings of baggage and cargo screening areas, imaged scans of bags and cargo, routine incident reports, and statistical reports. Also included are electronic copies of records created using electronic mail and word processing. This schedule authorizes the agency to apply the proposed disposition instructions to any medium.

5. Department of Justice, Federal Bureau of Investigation (N1-65-04-3, 5 items, 5 temporary items). Individual security risk assessment case files pertaining to individuals with access to select biological agents and toxins and a related database. Also included are electronic copies of records created using electronic mail and word processing applications.

6. Federal Retirement Thrift Investment Board, Office of the General Counsel (N1-474-04-1, 3 items, 3 temporary items). Outputs, master files, and system documentation associated with the General Counsel's Tracking System, which tracks the status of litigation cases and other legal matters. Also included are electronic copies of records created using electronic mail and word processing.

7. Department of Transportation, Federal Aviation Administration (N1-237-03-2, 9 items, 9 temporary items). Reports and other records relating to inspections of airway navigational equipment and facilities. Also included are electronic copies of records created using electronic mail and word processing.

8. Centennial of Flight Commission, Agency-wide (N1-220-04-2, 5 items, 3 temporary items). Housekeeping and facilitative records relating to such matters as travel, exhibit shipping, printing, and graphics, technical office copies of contract files, Web site administrative records, and electronic copies of records created using electronic mail and word processing. Proposed for permanent retention are recordkeeping copies of such records as member lists, meeting minutes, reports, speeches, press releases, and Web site content files.

9. National Archives and Records Administration, Policy and Communications Staff (N1-64-04-4, 5 items, 5 temporary items). Records relating to fund raising activities undertaken to support museum programs, including electronic copies of records created using electronic mail and word processing.

10. Small Business Administration, Office of Administrative Services (N1-309-04-3, 6 items, 6 temporary items). Outputs, master files, backups, and documentation associated with an electronic system used for maintaining information concerning approved microloans. Also included are electronic copies of documents created using word processing and electronic mail.

Dated: March 26, 2004.
Michael J. Kurtz,
Assistant Archivist for Record Services—Washington, DC.

[FR Doc. 04-7567 Filed 4-2-04; 8:45 am]

BILLING CODE 7515-01-P